DEPARTMENT OF LABOR

Employment and Training Administration

[TA-W-40,516, TA-W-40,516C, and TA-W-40,516D]

Bayer Clothing Group, Inc., Target Square Facility, Clearfield, PA; Macclenny Products, Lake Butler Facility, Lake Butler, Florida; Macclenny, FL Amended Certification Regarding Eligibility To Apply for Worker Adjustment Assistance

In accordance with Section 223 of the Trade Act of 1974 (19 USC 2273) the Department of Labor issued a Notice of Certification Regarding Eligibility to Apply for Worker Adjustment Assistance on May 7, 2002, applicable to workers of Bayer Clothing Group, Inc., Target Square Facility, Clearfield, Pennsylvania. The notice was published in the Federal Register on May 17, 2002 (67 FR 35141).

At the request of the company, the Department reviewed the certification for workers of the subject firm. The workers were engaged in the production of men's sports coats, suit coats, blazers and slacks.

New information shows that worker separations occurred at the Macclenny Products, Lake Butler Facility, Lake Butler, Florida and Macclenny Products, Macclenny, Florida locations of Bayer Clothing Group, Inc. The Lake Butler, Florida location which closed in April, 2002 and the Macclenny, Florida location provided warehousing and distribution services for Bayer Clothing Group, Inc. production facilities including Clearfield, Pennsylvania.

Accordingly, the Department is amending the certification to cover the workers of Bayer Clothing Group, Inc., Macclenny Products, Lake Butler, Florida and Macclenny, Florida.

The intent of the Department's certification is to include all workers of Bayer Clothing Group, Inc. who were adversely affected by increased imports.

The amended notice applicable to TA-W-40,516 is hereby issued as follows:

All workers of Bayer Clothing Group, Inc., Target Square Facility, Clearfield, Pennsylvania (TA-W-40,516) who became totally or partially separated from employment on or after January 22, 2002, through May 7, 2004, and Bayer Clothing Group, Inc., Macclenny Products, Lake Butler Facility, Lake Butler, Florida (TA-W-40,516C) and Bayer Clothing Group, Inc., Macclenny Products, Macclenny, Florida (TA-W-40,516D) who became totally or partially separated from employment on or after December 4, 2000, through May 7, 2004, are eligible to apply for adjustment assistance under Section 223 of the Trade Act of 1974.

Signed at Washington, DC this 3rd day of July, 2002.
Linda G. Poole,
Certifying Officer, Division of Trade Adjustment Assistance.

[FR Doc. 02-18631 Filed 7-23-02; 8:45 am]

BILLING CODE 4510-30-P